SOCIAL SECURITY ADMINISTRATION

Agency Information Collection Activities: Proposed Request

The Social Security Administration (SSA) publishes a list of information collection packages requiring clearance by the Office of Management and Budget (OMB) in compliance with Public Law 104-13, the Paperwork Reduction Act of 1995, effective October 1, 1995. This notice includes extensions and one revision of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Director at the following addresses or fax numbers.

(OMB), Office of Management and Budget, Attn: Desk Officer for SSA, Fax: 202-395-6974, Email address: OIRA_Submission@omb.eop.gov;

(SSA), Social Security Administration, DCRDP, Attn: Reports Clearance Director, 107 Altmeyer Building, 6401 Security Blvd., Baltimore, MD 21235, Fax: 410-966-2830, Email address: OPLM.RCO@ssa.gov.

The information collections below are pending at SSA. SSA will submit them to OMB within 60 days from the date of this notice. To be sure we consider your comments, we must receive them no later than August 6, 2012. Individuals can obtain copies of the collection instruments by writing to the above email address.

1. Request for Internet Services—Authentication; Automated Telephone Speech Technology—Knowledge-Based Authentication (RISA)—20 CFR 401.45—0960-0596. RISA, one of SSA's authentication methods, allows individuals to access their personal information through our Internet and Automated Telephone Services. SSA asks individuals and third parties who seek personal information from SSA records, or who register to participate in SSA's online business services, to provide certain identifying information. As an extra measure of protection, SSA asks requestors who use the Internet and telephone services to provide additional identifying information unique to those services so SSA can authenticate their identities before releasing personal information. The respondents are current beneficiaries who are requesting personal information from SSA, and individuals and third parties who are registering for SSA's online business services.

Type of Request: Extension of an OMB-approved information collection.
Modality of completion | Number of respondents | Frequency of response | Average burden per response (minutes) | Estimated total annual burden (hours)
Internet Requestors | 7,929,336 | 1 | 2.5 | 330,389
Telephone Requestors | 8,123,835 | 1 | 4.5 | 609,288
*Screen Splash (on hold) | 1 |  |  | 1
Totals | 16,053,172 |  |  | 939,678
* We are reducing the burden to a one-hour placeholder burden because we are placing the Screen Splash application on hold.

2. Application for Special Benefits for World War II Veterans—20 CFR 408, Subparts B, C, and D—0960-0615. Title VIII of the Social Security Act (Special Benefits for Certain World War II Veterans) allows qualified World War II veterans residing outside the United States to receive special monthly payments. These regulations establish the requirements individuals need to qualify for and become entitled to Special Veterans Benefits (SVB). SSA uses Form SSA-2000-F6 to elicit the information we need to determine entitlement to SVB.

This Information Collection Request comprises the relevant regulations and Form SSA-2006-F6. The respondents are individuals applying for SVB under title VIII of the Social Security Act.

Type of Request: Revision of an OMB-approved information collection.

Type of Request: Revision of an OMB-approved information collection.
Regulations Section and Collection Instrument | Number of respondents | Frequency of response | Average burden per response (minutes) | Estimated total annual burden (hours)
§ 408.202(d); § 408.210; § 408.230(a); § 408.305; §§ 408.310-.315 (SSA-2000-F6). | 100 | 1 | 20 | 33
§ 408.420(a), (b) | 71 | 1 | 15 | 18
§§ 408.430 & .432 | 66 | 1 | 30 | 33
§ 408.435(a), (b), (c) | 71 | 1 | 15 | 18
Totals | 308 |  |  | 102

3. Integrated Registration Services (IRES) System—20 CFR 401.45—0960-0626. The IRES System verifies the identity of individuals, businesses, organizations, entities, and government agencies seeking to use SSA's eService Internet and telephone applications. Individuals need this verification to electronically request and exchange business data with SSA. Requestors provide SSA the information needed to establish their identities. Once SSA verifies identity, the IRES system issues the requestor a user identification number (User ID) and a password to conduct business with SSA. Respondents are employers and third party submitters of wage data, business entities providing taxpayer identification information, and data exchange partners conducting business in support of SSA programs.

Type of Request: Extension of an OMB-approved information collection.

Modality of completion | Number of respondents | Frequency of response | Average burden per response (minutes) | Estimated total annual burden (hours)
IRES Internet Registrations | 724,581 | 1 | 5 | 60,382
IRES Internet Requestors | 7,987,763 | 1 | 2 | 266,259
IRES CS (CSA) Registrations | 25,221 | 1 | 11 | 4,624
Totals | 8,737,565 |  |  | 331,265

Dated: May 31, 2012.
Naomi R. Sipple,
Management Analyst, Office of Regulations and Reports Clearance, Social Security Administration.

[FR Doc. 2012-13598 Filed 6-5-12; 8:45 am]

BILLING CODE 4191-02-P